DEPARTMENT OF ENERGY

Federal Energy Regulatory Commission

[Project No. 6240-064]

Watson Associates; Notice of Waiver Period for Water Quality Certification Application

November 8, 2022.

On October 19, 2022, Watson Associates submitted to the Federal Energy Regulatory Commission (Commission) a copy of its application for a Clean Water Act section 401(a)(1) water quality certification filed with the New Hampshire Department of Environmental Services (New Hampshire DES), in conjunction with the above captioned project. Pursuant to 40 CFR 121.6 and section 4.34(b)(5) of the Commission's regulations,¹ we hereby notify the New Hampshire DES of the following:

¹ 18 CFR 4.34(b)(5).

Date of Receipt of the Certification Request: October 19, 2022.

Reasonable Period of Time to Act on the Certification Request: One year (October 19, 2023).

If New Hampshire DES fails or refuses to act on the water quality certification request on or before the above date, then the agency certifying authority is deemed waived pursuant to section 401(a)(1) of the Clean Water Act, 33 U.S.C. 1341(a)(1).

Kimberly D. Bose,
Secretary.

[FR Doc. 2022-24818 Filed 11-14-22; 8:45 am]

BILLING CODE P